DEPARTMENT OF COMMERCE

International Trade Administration

[C-580-835]

Stainless Steel Sheet and Strip in Coils from the Republic of Korea: Extension of Preliminary Results of Countervailing Duty Administrative Review

AGENCY: Import Administration, International Trade Administration, Department of Commerce.

ACTION: Notice of Extension of Time Limit for Preliminary Results of Countervailing Duty Administrative Review.

EFFECTIVE DATE: April 24, 2002.

FOR FURTHER INFORMATION CONTACT: Tipten Troidl or Carrie Farley, Office of AD/CVD Enforcement VI, Import Administration, International Trade Administration, U.S. Department of Commerce, 14th Street and Constitution Ave, N.W., Washington, D.C. 20230; telephone: 202-482-1767 or 202-482-0395, respectively.

SUPPLEMENTARY INFORMATION:

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On September 24, 2001, the Department published a notice of initiation of administrative review of the countervailing duty order on stainless steel sheet and strip from the Republic of Korea, covering the period January 1, 2000 through December 31, 2000 (see 65 FR 49924). The preliminary results are currently due no later than May 3, 2002.

Extension of Preliminary Results of Review

In this administrative review, we are analyzing whether a program-wide change occurred with respect to one of the programs we found countervailable in the original investigation. This program-wide change involves an issue of change of ownership. Additional information, and possible verification of this information, is required. Due to these considerations, we determine that it is not practicable to complete the preliminary results of this review within the original time limit. Therefore, the Department is extending the time limits for completion of the preliminary results until no later than September 3, 2002. We intend to issue the final results no later than 120 days after the publication of the preliminary results.This extension is in accordance with section 751(a)(3)(A) of the Act.

Dated: April 18, 2002
Bernard T. Carreau,
Deputy Assistant Secretary for Import Administration.

[FR Doc. 02-10068 Filed 4-23-02; 8:45 am]

BILLING CODE 3510-DS-S